FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Public Assistance Progress Report and Program Forms.

Type of Information Collection: Revision of a currently approved collection.

OMB Number: 3067-0151.

Abstract: Progress Reports ensure that the Federal Emergency Management Agency (FEMA) and the State have up-to-date information on Public Assistance (PA) program grants. The State submits reports quarterly to the Regional Director for construction projects for which a final payment has not been made. The date of the report will be determined jointly by the State and the Disaster Recovery Manager. The progress report describes the status of project completion dates, and circumstances that could delay a project. The State is expected to impose some reporting requirements for applicants so that they can prepare quarterly reports.

Affected Public: State, Local or Tribal Government and Not-For-Profit Institutions.

Number of Respondents: 222,488.

Estimated Time per Respondent:

FEMA Forms | Number of respondents (A) | Frequency of response (B) | Hours per response (C) | Annual burden hours (A × B × C)
Progress Report | 25 | 4 | 25 | 2,500
FEMA Form 90-49 | 114 | 53 | * 10 | 1,007
FEMA Form 90-91, 90-91A, 90-91B, 90-91C, and 90-91D | 564 | 53 | * 90 | 44,838
FEMA Form 90-120 | 564 | 53 | * 10 | 4,982
FEMA Form 90-121 | 20 | 53 | * 30 | 530
FEMA Form 90-123 | 564 | 53 | * 15 | 7,473
FEMA Form 90-124 | 564 | 53 | * 15 | 7,473
FEMA Form 90-125 | 564 | 53 | * 15 | 7,473
FEMA Form 90-126 | 564 | 53 | * 15 | 7,473
FEMA Form 90-127 | 564 | 53 | * 15 | 7,473
FEMA Form 90-128 | 114 | 53 | * 30 | 3,021
Total | 222,488 |  |  | 94,243
* Minutes.

Estimated Total Annual Burden Hours: 94,243 hours.

Frequency of Response: Quarterly.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW, Room 316, Washington, DC 20472, telephone number (202) 646-2625 or facsimile number (202) 646-3347, or e-mail muriel.anderson@fema.gov.

Dated: July 8, 2002.
Reginald Trujillo,
Branch Chief, Program Services and Systems Branch, Facilities Management and Services Division, Administration and Resource Planning Directorate.

[FR Doc. 02-17769 Filed 7-15-02; 8:45 am]

BILLING CODE 6718-01-P